DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Sentinel Centers Network (SCN) Core Data Set—NEW

HRSA's Bureau of Primary Health Care (BPHC) established the Sentinel Centers Network (SCN) to assist in addressing critical policy issues. Twenty-five BPHC supported health centers and NHSC sites have been awarded funds through sub-contracts in this first year of operation. These health centers were identified as having adequate infrastructure and commitment through the competitive contract process to serve as “laboratories” that will generate data for timely policy analyses and conducting projects on topics that have immediate policy impact.

A protocol for core data collection and retrieval, timelines, expectations, and evaluation of the Network sites is currently underway. It is expected that sites will submit these core data, or have these data extracted from their existing information systems periodically. These core data may include provider level, encounter level, and user level information regarding, for example, data on service delivery, utilization, payer sources, demographics, clinical diagnoses and outcomes, staffing, and costs. Since all data obtained from the participant sites will be extracted/compiled from existing information systems, and not through primary data collection, burden will therefore be minimized. In addition, each participant site will receive technical assistance both on site and via telephone to reduce burden as much as possible.

Estimated burden hours:

Type of respondent | Number of respondents | Responses per respondent | Total responses | Hours per responses | Total burden hours
Sites | 25 | 4 | 100 | 8 | 800

Send comments to Susan G. Queen, Ph.D., HRSA Reports Clearance Officer, Room 11-05, Parklawn Building, 5600 Fishers Lane, Rockville, MD 20857. Written comments should be received within 60 days of this notice.

Dated: February 8, 2002.
Jane M. Harrison,
Director, Division of Policy Review and Coordination.

[FR Doc. 02-3617 Filed 2-13-02; 8:45 am]

BILLING CODE 4165-15-P